DEPARTMENT OF LABOR

Comment Request for Proposed Information Collection for Employment and Training Administration Financial Report Form #9130 (OMB Control No. 1205-0461), Extension Without Change

AGENCY: Employment and Training Administration.

ACTION: Notice.

SUMMARY: The Department of Labor, as part of its continuing effort to reduce paperwork and respondent burden conducts a preclearance consultation program to provide the general public and Federal agencies with an opportunity to comment on proposed and/or continuing collections of information in accordance with the Paperwork Reduction Act of 1995 (PRA95) [44 U.S.C. 3506(c)(2)(A)]. This program helps to ensure that requested data can be provided in the desired format, reporting burden (time and financial resources) is minimized, collection instruments are clearly understood, and the impact of collection requirements on respondents can be properly assessed. Currently, the Employment and Training Administration is soliciting comments concerning the collection of data for quarterly financial reporting on federally funded programs, on Form ETA-9130 (currently due to expire November 30, 2009).

A copy of the proposed information collection request (ICR) can be obtained by contacting the office listed below in the addressee section of this notice or by accessing: http://www.doleta.gov/OMBCN/OMBControlNumber.cfm.

DATES: Written comments must be submitted to the office listed in the addressee's section below on or before September 14, 2009.

ADDRESSES: Submit written comments to Judi Fisher, Room N-4716, Employment and Training Administration, 200 Constitution Avenue, NW., Washington, DC 20210. Telephone number: 202-693-3024 (this is not a toll-free number). Fax: 202-693-3362. E-mail: fisher.judi@dol.gov.

SUPPLEMENTARY INFORMATION: Financial reporting requirements for Federal programs are prescribed in OMB Circulars A-102 and A-110. U.S. DOL has codified these requirements at 29 CFR 95.52 and 29 CFR 97.41, which specify that forms approved by OMB are authorized for obtaining financial information from recipients.

Pursuant to Public Law 106-107, OMB is streamlining Federal financial reporting. Inclusion of Federal Cash data in quarterly financial reporting is a significant modification that has been added to the expenditure information contained in ETA Form 9130.

Further, ETA programs have varied administrative cost limitation requirements as specified in program statutes, regulations, and/or individual grant agreements. A line item for Total Administrative Expenditures provides a mechanism for assessing compliance with these requirements.

ETA has utilized the data collected to assess the effectiveness of ETA programs and to monitor and analyze the financial activity of its grantees. Grantees are provided with pre-designed software to reflect the requirements of ETA Form 9130 so that the required data will be reported electronically.

This data collection format permits ETA to evaluate program effectiveness and to monitor and analyze financial activity, while complying with OMB efforts to streamline Federal financial reporting.

I. Review Focus

The Department of Labor is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submissions of responses.

III. Current Actions

Title: US DOL Employment and Training Administration Financial Reporting Form, ETA 9130.

OMB Number: 1205-0461.

Type of Review: extension without changes.

Frequency: Quarterly.

Affected Public: Business or other for-profit and not-for-profit institutions.

Type of Response: Reporting.

Number of Respondents: 680.

Annual Responses: 5,440.

Average Response Time: ½ hour (30 minutes).

Total Annual Burden Hours: 2,720.

Total Annualized Capital/Startup Costs: 0.

Total Annual Costs (operating/maintaining systems or purchasing services): 0.

Comments submitted in response to this comment request will be summarized and/or included in the request for Office of Management and Budget approval of the information collection request; they will also become a matter of public record.

Dated: July 10, 2009.
Laura P. Watson,
Associate Deputy Administrator, Office of Financial and Administrative Management, Employment and Training Administration.

[FR Doc. E9-16816 Filed 7-15-09; 8:45 am]

BILLING CODE 4510-FN-P